SMALL BUSINESS ADMINISTRATION

Data Collection Available for Public Comments

ACTION: 60-Day notice and request for comments.

SUMMARY: The Small Business Administration (SBA) intends to request approval, from the Office of Management and Budget (OMB) for the collection of information described below. Unless waived, the Paperwork Reduction Act (PRA) requires federal agencies to publish a notice in the Federal Register concerning each proposed collection of information before submission to OMB, and to allow 60 days for public comment in response to the notice.

DATES: Submit comments on or before April 26, 2021.

ADDRESSES: Send all comments to, Cynthia Pitts, Office of Disaster Assistance, Small Business Administration.

FOR FURTHER INFORMATION CONTACT: Cynthia Pitts, cynthia.pitts@sba.gov, (202) 205-7570.

SUPPLEMENTARY INFORMATION: As authorized by the Coronavirus Preparedness and Response Supplemental Appropriations Act, 2020, the Coronavirus Aid, Relief, and Economic Security Act (CARES Act), the Paycheck Protection Program and Health Care Enhancement Act, and the new Economic Aid to Hard-Hit Small Businesses, Nonprofits, and Venues Act, the Small Business Administration (SBA) has been providing COVID-19 Economic Injury Disaster Loans to provide working capital for small businesses, private nonprofits, and small agricultural enterprises who suffered substantial economic injury as a result of the Coronavirus pandemic. SBA has received more than 16 million loan applications and a small percentage of those applications may be a result of identity theft. In an effort to ensure SBA is taking the appropriate action for individuals who have indicated they have been the victim of identity theft, the individual will need to provide an affidavit to SBA indicating no involvement in the filing of the loan application, and that they did not receive or have knowledge of who received the loan funds. The information will be collected from those individuals (or their representative) who, without their knowledge or authorization, had an application submitted to SBA's Office of Disaster Assistance (ODA) utilizing their personal information. ODA will review the information contained in the affidavit to determine whether there was identity theft involved, and if so, ODA will take the necessary steps to stop all billing statements, release any UCC Security filings, and to ensure that loan information will not be publicly reported in the name of the identity theft victim. In addition, this affidavit will be provided to the Office of Inspector General and other enforcement agencies in any legal action going forward. The SBA requested and received emergency approval under 5 CFR 1320.13 for this information collection.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0418.

(1) Title: Economic Injury Disaster Loan (EIDL) Application Declaration of Identify Theft COVID-19.

Description of Respondents: Individuals who have identified and attest to potential identity theft.

Form Number: SBA Form 3513.

Total Estimated Annual Responses: 50,000.

Total Estimated Annual Hour Burden: 12,500.

Curtis Rich,
Management Analyst.

[FR Doc. 2021-03696 Filed 2-22-21; 8:45 am]

BILLING CODE 8026-03-P